DEPARTMENT OF TRANSPORTATION

National Highway Traffic Safety Administration

[Docket No. NHTSA-2014-0076; Notice 1]

Chrysler Group, LLC, Receipt of Petition for Decision of Inconsequential Noncompliance

AGENCY: National Highway Traffic Safety Administration (NHTSA), Department of Transportation (DOT).

ACTION: Receipt of Petition.

SUMMARY: Chrysler Group, LLC (Chrysler), a wholly owned subsidiary of Fiat S.p.A., has determined that certain model year (MY) 2014 RAM 2500 trucks do not fully comply with paragraph S4.3 of Federal Motor Vehicle Safety Standard (FMVSS) No. 110, Tire Selection and Rims and Motor Home/Recreation Vehicle Trailer Load Carrying Capacity Information for Motor Vehicles with a GVWR of 4,536 kilograms (10,000 pounds) or less, and certain MY 2014 RAM 3500 trucks do not fully comply with paragraph S5.3 of FMVSS No. 120, Tire Selection and Rims and Motor Home/Recreation Vehicle Trailer Load Carrying Capacity Information for Motor Vehicles with a GVWR of more than 4,536 kilograms (10,000 pounds). Chrysler filed an appropriate report dated May 6, 2014, pursuant to 49 CFR part 573, Defect and Noncompliance Responsibility and Reports and amended that report on June 10, 2014.

DATES: The closing date for comments on the petition is September 24, 2014.

ADDRESSES: Interested persons are invited to submit written data, views, and arguments on this petition. Comments must refer to the docket and notice number cited at the beginning of this notice and must be submitted by any of the following methods:

• Mail: Send comments by mail addressed to: U.S. Department of Transportation, Docket Operations, M-30, West Building Ground Floor, Room W12-140, 1200 New Jersey Avenue SE., Washington, DC 20590.

• Hand Deliver: Deliver comments by hand to: U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by: logging onto the Federal Docket Management System (FDMS) Web site at http://www.regulations.gov/. Follow the online instructions for submitting comments. Comments may also be faxed to (202) 493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

SUPPLEMENTARY INFORMATION: I. Chrysler's Petition: Pursuant to 49 U.S.C. 30118(d) and 30120(h) (see implementing rule at 49 CFR part 556), Chrysler submitted a petition for an exemption from the notification and remedy requirements of 49 U.S.C. Chapter 301 on the basis that this noncompliance is inconsequential to motor vehicle safety.

This notice of receipt of Chrysler's petition is published under 49 U.S.C. 30118 and 30120 and does not represent any agency decision or other exercise of judgment concerning the merits of the petition.

II. Vehicles Involved: The affected vehicles include approximately 198 MY 2014 RAM 2500 trucks and 87 MY 2014 RAM 3500 trucks that were produced from March 4, 2014 through March 6, 2014.

III. Noncompliance: Chrysler explains that due to the absence of the designated rim size and type on the 49 CFR part 567 certification labels, the subject vehicles do not fully comply with paragraph S4.3 of FMVSS No. 110 (RAM 2500 trucks) and paragraph S5.3 of FMVSS No. 120 (RAM 3500 trucks).

IV. Rule Text: Paragraph S4.3 of FMVSS No. 110 requires in pertinent part:

* * * S4.3.3 Additional labeling information for vehicles other than passenger cars. Each vehicle shall show the size designation and, if applicable, the type designation of rims (not necessarily those on the vehicle) appropriate for the tire appropriate for use on that vehicle, including the tire installed as original equipment on the vehicle by the vehicle manufacturer, after each GAWR listed on the certification label required by § 567.4 or § 567.5 of this chapter. This information shall be in the English language, lettered in block capitals and numerals not less than 2.4 millimeters high and in the following format: * * *

Paragraph S5.3 of FMVSS No. 120 requires in pertinent part:

* * * S5.3.1 Tires. The size designation (not necessarily for the tires on the vehicle) and the recommended cold inflation pressure for those tires such that the sum of the load ratings of the tires on each axle (when the tires' load carrying capacity at the specified pressure is reduced by diving by 1.10, in the case of a tire subject to FMVSS No. 109) is appropriate for the GAWR as calculated in accordance with S5.1.2.

S5.3.2 Rim. The size designation and, if applicable, the type designation of Rims (not necessarily those on the vehicle) appropriate for those tires. * * *

V. Summary of Chrysler's Analyses: Chrysler stated its belief that the subject noncompliance is inconsequential to motor vehicle safety for the following reasons:

1. Tire size and pressure information is located on the Tire Inflation Pressure label which is located in the same door opening as the certification label.

a. Certification label is located on the driver door.

b. Tire placard is located on the forward edge of the driver's B-pillar.

2. Tire size and inflation pressure can be found on each tire.

3. Tire and rim information can be found in the vehicle owner's manual.

4. Rim/wheel size can be derived using the tire information printed on the Tire Inflation Pressure label or the tire sidewall information.

5. Chrysler is not aware of any warranty claims, field reports, customer complaints, legal claims or any incidents or injuries related to the subject condition.

6. Chrysler also stated its belief that NHTSA has previously granted petition similar in nature.

Chrysler has additionally informed NHTSA that it has corrected the noncompliance so that all future production of these vehicles will fully comply with FMVSS Nos. 110 and 120.

In summation, Chrysler believes that the described noncompliance of the subject vehicles is inconsequential to motor vehicle safety, and that its petition, to exempt from providing recall notification of noncompliance as required by 49 U.S.C. 30118 and remedying the recall noncompliance as required by 49 U.S.C. 30120 should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject noncompliant vehicles that Chrysler no longer controlled at the time it determined that the noncompliance existed. However, any decision on this petition does not relieve vehicle distributors and dealers of the prohibitions on the sale, offer for sale, or introduction or delivery for introduction into interstate commerce of the noncompliant vehicles under their control after Chrysler notified them that the subject noncompliance existed.

Authority: (49 U.S.C. 30118, 30120: delegations of authority at 49 CFR 1.95 and 501.8)

Jeffrey Giuseppe,
Acting Director, Office of Vehicle Safety Compliance.

[FR Doc. 2014-20037 Filed 8-22-14; 8:45 am]

BILLING CODE 4910-59-P